DEPARTMENT OF LABOR

Office of the Secretary

Agency Information Collection Activities; Submission for OMB Review; Comment Request; Regulations Containing Procedures for Handling of Retaliation Complaints

ACTION: Notice of availability; request for comments.

SUMMARY: The Department of Labor (DOL) is submitting this Occupational Safety and Health Administration (OSHA)-sponsored information collection request (ICR) to the Office of Management and Budget (OMB) for review and approval in accordance with the Paperwork Reduction Act of 1995 (PRA). Public comments on the ICR are invited.

DATES: The OMB will consider all written comments that agency receives on or before April 27, 2020.

ADDRESSES: Written comments and recommendations for the proposed information collection should be sent within 30 days of publication of this notice to www.reginfo.gov/public/do/PRAMain. Find this particular information collection by selecting “Currently under 30-day Review—Open for Public Comments” or by using the search function.

Comments are invited on: (1) Whether the collection of information is necessary for the proper performance of the functions of the Department, including whether the information will have practical utility; (2) if the information will be processed and used in a timely manner; (3) the accuracy of the agency's estimates of the burden and cost of the collection of information, including the validity of the methodology and assumptions used; (4) ways to enhance the quality, utility and clarity of the information collection; and (5) ways to minimize the burden of the collection of information on those who are to respond, including the use of automated collection techniques or other forms of information technology.

FOR FURTHER INFORMATION CONTACT: Frederick Licari by telephone at 202-693-8073, TTY 202-693-8064, (these are not toll-free numbers) or by email at DOL_PRA_PUBLIC@dol.gov.

SUPPLEMENTARY INFORMATION: The agency is responsible for investigating alleged violations of whistleblower provisions contained in a number of statutes. These whistleblower provisions generally prohibit retaliation by employers against employees who report alleged violations of certain laws or regulations. Accordingly, these provisions prohibit an employer from discharging or taking any other retaliatory action against an employee because the employee engages in any of the protected activities specified by the whistleblower provisions of the statutes. Collection of information contained in future regulations promulgated by the agency with respect to a whistleblower provision of any other Federal law, except those that are assigned to another DOL agency, will be added to this information collection. OSHA's whistleblower regulations specify the procedures that an employee must use to file a complaint alleging that their employer violated a whistleblower provision for which the agency has investigative responsibility. Any employee who believes that such a violation occurred may file a complaint, or have the complaint filed on their behalf. Two of these regulations, 29 CFR parts 1979 and 1981, state that complaints must be filed in writing and should include a full statement of the acts and omissions, with pertinent dates, that the employee believes constitute the violation. The other regulations, 29 CFR parts 24, 1977, 1978, 1980, 1982, 1983, 1984, 1986, 1986, 1987, and 1988 require no particular form of filing for complaints. However, it is OSHA's policy to accept complaints in any form (i.e., orally or in writing) under all statutes. This policy helps ensure that employees of all circumstances and education levels will have equal access to the complaint filing process. The agency currently utilizes the OSHA Online Whistleblower Complaint Form, which includes interactive features to aid employees seeking to understand the process and requirements for filing a retaliation complaint with OSHA. The web-based form enables employees to submit whistleblower complaints directly to OSHA 24-hours a day. The electronic form also provides information about employee protections enforced by other agencies, in order to better direct complainants to the proper investigative agencies. OSHA proposes to revise this ICR to include revisions to the electronic complaint form to make the following changes and technical updates. On the landing page, before the electronic complaint form, the user will have the opportunity to click a hyperlink which will direct them to a map that identifies the OSHA regions and their respective contact information. Once in the electronic form, “pop-ups” will appear whenever the user attempts to click away from a required field without making an entry. Lastly, the character count for two optional text boxes will increase from 500 to 1,000 characters. This allows the users to explain their case to OSHA. A mark-up of the proposed changes to the form is available in the docket. For additional substantive information about this ICR, see the related notice published in the Federal Register on November 29, 2019 (84 FR 65845).

This information collection is subject to the PRA. A Federal agency generally cannot conduct or sponsor a collection of information, and the public is generally not required to respond to an information collection, unless the OMB approves it and displays a currently valid OMB Control Number. In addition, notwithstanding any other provisions of law, no person shall generally be subject to penalty for failing to comply with a collection of information that does not display a valid OMB Control Number. See 5 CFR 1320.5(a) and 1320.6.

DOL seeks PRA authorization for this information collection for three (3) years. OMB authorization for an ICR cannot be for more than three (3) years without renewal. The DOL notes that information collection requirements submitted to the OMB for existing ICRs receive a month-to-month extension while they undergo review.

Agency: DOL-OSHA.

Title of Collection: Regulations Containing Procedures for Handling of Retaliation Complaints.

OMB Control Number: 1218-0236.

Affected Public: Individuals and Households.

Total Estimated Number of Respondents: 10,126.

Total Estimated Number of Responses: 10,126.

Total Estimated Annual Time Burden: 10,126 hours.

Total Estimated Annual Other Costs Burden: $0.

(Authority: 44 U.S.C. 3507(a)(1)(D))

Dated: March 23, 2020.
Frederick Licari,
Departmental Clearance Officer.

[FR Doc. 2020-06404 Filed 3-26-20; 8:45 am]

BILLING CODE 4510-26-P